DEPARTMENT OF TRANSPORTATION

Federal Highway Administration

Environmental Impact Statement: Pueblo, CO

AGENCY: Federal Highway Administration (FHWA), DOT.

ACTION: Notice of intent.

SUMMARY: The FHWA is issuing this notice to advise the public that an environmental impact statement will be prepared for a proposed highway project on Interstate 25 in Pueblo, Colorado, from south of Pueblo Boulevard/State Highway 45 (Milepost 94) to north of U.S. Highway 50/State Highway 47 (Milepost 102).

FOR FURTHER INFORMATION CONTACT: Chris Horn, Federal Highway Administration, 555 Zang Street, Suite 250, Lakewood, Colorado 80228-1010. Telephone (303) 969-6730 x383.

SUPPLEMENTARY INFORMATION: The FHWA, in cooperation with the Colorado Department of Transportation (CDOT), will prepare an Environmental Impact Statement (EIS) for a proposal to improve a 7-mile segment of Interstate 25 (I-25) in and near Pueblo, Colorado. Improvements are necessary to address a deteriorating roadway and bridges with inadequate geometrics, safety, and existing and future traffic demand.

Alternative under consideration include taking no action, reconstruction of the interstate on essentially the existing alignment, and reconstruction on existing and new alignment. These alternatives are further described as follows:

—No Action Alternative—This alternative provides only for minor improvements, repairs, and other maintenance actions. The existing four-lane highway will otherwise remain unchanged.

—Existing I-25 Alignment Alternative—This alternative consists of reconstructing I-25 to six lanes on essentially the same location, reconfiguring and eliminating access points to the interstate to improve safety, and providing other improvements to the local street system to enhance system connectivity and traffic movement near the interstate.

—Modified I-25 Alignment Alternative—This alternative consists of rebuilding I-25 to six lanes and providing the other improvements included in the Existing Alignment Alternative, except the alignment would be shifted to accommodate different interchange configurations.

Incorporated into and studied with the build alternatives will be Transportation System Management strategies and design variations of grade and alignment.

The preliminary alternatives have been developed with the cooperation of public and agency work groups, and will be developed further during the preparation of the EIS, in conjunction with the FHWA, CDOT, and other federal and state agencies, the City of the Pueblo, the County of Pueblo, the Pueblo Area Council of Governments, and residents of the community.

The public will be invited to participate in project scoping to ensure that the full range of issues are considered and all significant issues are identified. The location and time of the scoping meeting will be scheduled during the month of February 2003 and will be announced in the local media. Public meetings will occur throughout the development of the EIS and a public hearing will be held. Prior to the hearing the draft EIS will be available for public and agency review and comment. Public notice will be given of the time and place of all public meetings and the hearing.

Comments or questions regarding this proposed action and the EIS should be directed to FHWA at the address provided above.

(Catalog of Federal Domestic Assistance Program Number 20.205, Highway Planning and Construction. The regulations implementing Executive Order 12372 regarding intergovernmental consultation on Federal programs and activities apply to this program.)

Issued on January 16, 2003.
William C. Jones,
Division Administrator, Lakewood, CO.

[FR Doc. 03-1572 Filed 1-24-03; 8:45 am]

BILLING CODE 4910-22-M